DEPARTMENT OF COMMERCE

National Institute of Standards and Technology

Proposed Information Collection; Comment Request; Events and Efforts Supporting National Cybersecurity Career Awareness Week

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 8, 2018.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to The NICE Program Office, (301) 975-5048; nice.nist@nist.gov.

SUPPLEMENTARY INFORMATION:

I. Abstract

As part of NIST's charge for National Cybersecurity Awareness and Education outlined in the Cybersecurity Enhancement Act of 2014, the National Initiative for Cybersecurity Education (NICE) energizes and promotes a robust network and an ecosystem of cybersecurity education, training, and workforce development. NICE, led by NIST, fulfills this mission by coordinating with government, academic, and industry partners to build on existing successful programs, facilitate change and innovation, and bring leadership and vision to increase the number of skilled cybersecurity professionals helping to keep our Nation secure.

Further, in support of the NICE Strategic Plan goals and objectives, the National Cybersecurity Career Awareness Week has been established to inspire, educate, and engage children through adults to pursue careers in cybersecurity. The annual week-long celebration provides for learning about the contributions, innovations, and opportunities that can be found by exploring cybersecurity as a field of study or career choice. The NICE community is encouraged to organize and participate in activities and initiatives during the week that:

• Create excitement around increasing public awareness and engagement in building a strong cybersecurity workforce.

• Emphasize the demand and opportunities in the field of cybersecurity.

• Increase awareness around the multiple career options within the field of cybersecurity.

• Highlight the numerous pathways to enter the cybersecurity career field.

• Showcase programs that increase participation of women, minorities, veterans, persons with disabilities, and other underrepresented populations in the cybersecurity workforce.

• Advance the NICE Strategic Plan objective to inspire cybersecurity career awareness with students.

NICE Program Office strives to provide a comprehensive list of activities as described above to enable collaboration and growth.

II. Method of Collection

The primary method of collection will be via an electronic (internet) submission form.

III. Data

OMB Control Number: 0693-XXXX (New collection).

Form Number(s): None.

Type of Review: Regular submission.

Affected Public: Business or other for-profit organizations; Not-for-profit institutions; State, Local, or Tribal government; Federal government;

Estimated Number of Respondents: 500.

Estimated Time per Response: 5 minutes.

Estimated Total Annual Burden Hours: 42 hours.

Estimated Total Annual Cost to Public: $0.00.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-04732 Filed 3-8-18; 8:45 am]

BILLING CODE 3510-13-P